DEPARTMENT OF THE INTERIOR

National Park Service

[NPS-WASO-NAGPRA-13407; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum, University of Washington (Burke Museum), has completed an inventory of human remains and associated funerary objects in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Burke Museum. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Burke Museum at the address in this notice by August 23, 2013.

ADDRESSES: Peter Lape, Burke Museum, University of Washington, Box 35101, Seattle, WA 98195, telephone (206) 685-3849, email plape@uw.edu.

SUPPLEMENTARY INFORMATION: Notice is here given in accordance with the Native American Graves Protection and Repatriation Act (NAGPRA), 25 U.S.C. 3003, of the completion of an inventory of human remains and associated funerary objects under the control of the Burke Museum. The human remains and associated funerary objects were most likely removed from the upper Columbia River Plateau, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Burke Museum professional staff in consultation with representatives of the Confederated Tribes and Bands of the Yakama Nation; Confederated Tribes of the Colville Reservation; Confederated Tribes of the Umatilla Indian Reservation (previously listed as the Confederated Tribes of the Umatilla Reservation, Oregon); Confederated Tribes of the Warm Springs Reservation of Oregon; Nez Perce Tribe (previously listed as the Nez Perce Tribe of Idaho); and the Wanapum Band, a non-federally recognized Indian group (hereafter referred to as “The Tribes and The Indian Group”).

History and Description of the Remains

At an unknown date, human remains representing, at minimum, one individual were most likely removed from the upper Columbia River Plateau, WA. The human remains and associated funerary objects were found in an unlabeled bag in the Burke Museum's Ethnology collection in 1996. No known individuals were identified. The one associated funerary object is a bag containing copper fragments (including rolled copper, thin hammered fragments, beads, buttons, a necklace and blanket pin, melted glass beads, and one projectile point).

The associated funerary objects described in this notice are consistent with burial materials found in archaeological sites in Benton and Grant Counties, WA. The human remains in this notice have been determined to be Native American based on archaeological evidence.

Early and late published ethnographic documentation indicates that the upper Columbia River Plateau was the aboriginal territory of the Moses-Columbia or Sinkiuse, and the Yakima (Daugherty 1973, Miller 1998, Mooney 1896, Ray 1936, Spier 1936) whose descendants are represented today by the Confederated Tribes of the Colville Reservation and the Confederated Tribes and Bands of the Yakama Nation. Furthermore, information provided by the tribes during consultation indicates that the aboriginal ancestors occupying this area were highly mobile and traveled the landscape for gathering resources as well as trade. Descendants of these Plateau communities are now widely dispersed and enrolled as members of The Tribes and The Indian Group.

Determinations Made by the Burke Museum

Officials of the Burke Museum have determined that:

• Based on archaeological evidence, the human remains have been determined to be Native American.

• Pursuant to 25 U.S.C. 3001(9), the human remains described in this notice represent the physical remains of one individual of Native American ancestry.

• Pursuant to 25 U.S.C. 3001(3)(A), the one object described in this notice are reasonably believed to have been placed with or near individual human remains at the time of death or later as part of the death rite or ceremony.

• Pursuant to 25 U.S.C. 3001(2), there is a relationship of shared group identity that can be reasonably traced between the Native American human remains and The Tribes and The Indian Group.

Additional Requestors and Disposition

Lineal descendants or representatives of any Indian tribe or Native Hawaiian organization not identified in this notice that wish to request transfer of control of these human remains and associated funerary objects should submit a written request with information in support of the request to Peter Lape, Burke Museum, University of Washington, Box 35101, Seattle, WA 98195, telephone (206) 685-3849, email plape@uw.edu, by August 23, 2013. After that date, if no additional requestors have come forward, transfer of control of the human remains and associated funerary objects The Tribes and The Indian Group (if joined) may proceed.

The Burke Museum is responsible for notifying The Tribes and The Indian Group that this notice has been published.

Dated: June 27, 2013.
Melanie O'Brien,
Acting Manager, National NAGPRA Program.

[FR Doc. 2013-17714 Filed 7-23-13; 8:45 am]

BILLING CODE 4312-50-P